DEPARTMENT OF COMMERCE

International Trade Administration

[A-823-814]

Notice of Final Determination of Sales at Less Than Fair Value: Urea Ammonium Nitrate Solutions from Ukraine

AGENCY: Import Administration, International Trade Administration, Department of Commerce.

EFFECTIVE DATE: February 27, 2003.

FOR FURTHER INFORMATION CONTACT: Crystal Scherr Crittenden at (202) 482-0989, or Tom Futtner at (202) 482-3814, Office of AD/CVD Enforcement IV, Group II, Import Administration, International Trade Administration, U.S. Department of Commerce, 14th Street and Constitution Avenue, NW, Washington, DC 20230.

SUPPLEMENTARY INFORMATION:

Final Determination

We determine that urea ammonium nitrate solutions (UANS) from Ukraine are being, or are likely to be, sold in the United States at less than fair value (LFTV), as provided in section 735 of the Tariff Act of 1930, as amended (the Act). The estimated margins are shown in the “Suspension of Liquidation” section of this notice.

Case History

On October 3, 2002, the Department published its preliminary determination in the above-captioned antidumping duty investigation. See Notice of Preliminary Determination of Sales at Less Than Fair Value: Urea Ammonium Nitrate Solutions from Ukraine, 67 FR 62013 (October 3, 2002) (Preliminary Determination). See also Notice of Initiation of Antidumping Duty Investigations: Urea Ammonium Nitrate Solutions from Belarus, Lithuania, the Russian Federation, and Ukraine, 67 FR 35492 (May 20, 2002) (Initiation Notice).

Since the preliminary determination, the following events have occurred. On November 1, 2002, the petitioner¹ requested a hearing pursuant to 19 CFR 351.301(e). However, no hearing was held in this investigation because the petitioner withdrew its request for a hearing. On November 27, 2002, the Department postponed the final determination for this investigation in accordance with 19 CFR 351.210(b). See Postponement of the Final Determinations in the Less-Than-Fair-Value Investigations of Urea Ammonium Nitrate Solutions From Belarus, the Russian Federation, and Ukraine, 67 FR 67823 (November 7, 2002). On December 23, 2002, the Department issued the schedule for interested parties to comment on the preliminary determination. See Memo to the File from Paige Rivas, Thomas Martin and Crystal Crittenden dated December 23, 2002. No case or rebuttal briefs were submitted.

¹ The petitioner is the Nitrogen Solutions Fair Trade Committee (the petitioner). Its members consist of CF Industries, Inc., Mississippi Chemical Corporation, and Terra Industries, Inc.

Scope of Investigation

For purposes of these investigations, the product covered is all mixtures of urea and ammonium nitrate in aqueous or ammoniacal solution, regardless of nitrogen content by weight, and regardless of the presence of additives, such as corrosion inhibitors. The merchandise subject to these investigations is classified in the Harmonized Tariff Schedule of the United States (HTSUS) under item number 3102.80.00.00. Although the HTSUS item number is provided for convenience and customs purposes, the written description of the merchandise under investigation is dispositive.

Period of Investigation

The period of investigation (POI) is October 1, 2001, through March 31, 2002.

Nonmarket Economy Country Status

The Department has treated Ukraine as an nonmarket economy (NME) country in all previous antidumping investigations. See Notice of Final Determination of Sales at Less Than Fair Value: Solid Agricultural Ammonium Nitrate from Ukraine, 66 FR 38632 (July 25, 2001). This NME designation remains in effect until it is revoked by the Department. See section 771(1)(C) of the Act. No party has sought revocation of the NME status in this investigation.² Therefore, in accordance with section 771(1)(C) of the Act, we will continue to treat Ukraine as an NME country.

² We note that the Department received a request for revocation of Ukraine's NME status but determined to defer its decision on this issue. See Notice to Defer a Decision Regarding Ukraine's Non-Market Economy Status: Antidumping Duty Investigation of Carbon and Certain Alloy Steel Wire Rod from Ukraine, 67 FR 51536 (August 8, 2002). Information on this separate proceeding can also be found at Import Administration's website, at http://ia.ita.doc.gov/

Ukraine-Wide Rate

In an NME proceeding, the Department presumes that all companies within the country are subject to governmental control, and assigns separate rates only if the respondent demonstrates the absence of both de jure and de facto governmental control over export activities. See Notice of Sales at Less Than Fair Value: Bicycles From the People's Republic of China, 61 FR 19026, 19027 (April 30, 1996). In the Preliminary Determination, we found that the mandatory respondents, JSC Stirol (Stirol) and JSC Azot Cherkassy (Cherkassy), did not demonstrate eligibility for a separate rate. Accordingly, we preliminarily determined that Stirol and Cherkassy, in addition to all other exporters, are part of the NME-entity and subject to the Ukraine-wide rate.

We received no comments on this issue. Therefore, in our final results we continue to find that Stirol and Cherkassy, in addition to all other exporters, are part of the NME entity and therefore subject to the Ukraine-wide rate.

Use of Facts Available

In the Preliminary Determination, the Department found that the respondents did not cooperate to the best of their ability and applied the total adverse facts available rate of 193.58 percent, the corroborated initiation rate, as the “Ukraine-wide” rate. See Preliminary Determination. See also Initiation Notice. No interested party objected to the use of adverse facts available, nor to the Department's choice of facts available. For this final determination, we are continuing to apply total adverse facts available for the “Ukraine-wide” rate.

Changes Since the Preliminary Determination

The Department updated the 2000 income data for expected wages of selected NME countries initially revised in September 2002. In the Preliminary Determination, the Department calculated the “Ukraine-wide” rate using $0.78 per hour, the 2000 expected wage for Ukraine revised in September 2002, as the surrogate value for Ukrainian labor. See Total Facts Available Corroboration Memorandum, dated September 26, 2002. For the final determination, we applied $0.76 per hour, the 2000 expected wage for Ukraine corrected in February 2003, as the surrogate value for Ukrainian labor. See Memorandum from Crystal Crittenden, Import Compliance Specialist, Through Tom Futtner, Senior Program Manager, to The File, “Changes Since the Preliminary Determination Calculation Memorandum,” dated February 18, 2003.

Suspension of Liquidation

Pursuant to section 735(c)(1)(B) of the Act, we are instructing the U.S. Customs Service (Customs) to continue to suspend liquidation of all entries of UANS from Ukraine that are entered, or withdrawn from warehouse, for consumption on or after October 3, 2003 (the date of publication of the Preliminary Determination in the Federal Register). Customs shall continue to require a cash deposit or the posting of a bond equal to the estimated amount by which the normal value exceeds the U.S. price as shown below. The suspension of liquidation instructions will remain in effect until further notice.

We determine that the following percentage margin exists for the period October 1, 2001, through March 31, 2002:

Manufacturer/Exporter | Margin ­(percent)
Ukraine-wide | 193.57

U.S. International Trade Commission (ITC) Notification

In accordance with section 735(d) of the Act, we have notified the ITC of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: February 19, 2003.
Faryar Shirzad,
Assistant Secretary for Import Administration.

[FR Doc. 03-4649 Filed 2-26-03; 8:45 am]

BILLING CODE 3510-DS-S